DEPARTMENT OF STATE

22 CFR Parts 122 and 129

[Public Notice 4920]

RIN 1400-AB97

Amendment to the International Traffic in Arms Regulations: Registration Fee Change

AGENCY: Department of State.

ACTION: Interim rule and request for comments.

SUMMARY: This rule amends the International Traffic in Arms Regulations (ITAR) (22 CFR parts 122 and 129) by increasing the registration fees, changing the registration renewal period, and making other minor administrative changes.

DATES: Effective Date: This interim rule takes effect on December 8, 2004. Comment Date: The Department will accept written comments, which must be received no later than January 7, 2005.

ADDRESSES: Interested parties are invited to submit written comments to the Department of State, Directorate of Defense Trade Controls, Office of Defense Trade Controls Management, ATTN: ITAR Regulatory Change, 22 CFR parts 122 and 129, 13th Floor, SA-1, Washington, DC 20522-0112. E-mail comments may be sent to DTCPResponseTeam@state.gov with the subject line: ITAR Regulatory Change, 22 CFR parts 122 and 129. Persons with access to the Internet may also view this notice by going to the regulations.gov Web site at: http://www.regulations.gov.

FOR FURTHER INFORMATION CONTACT: David Trimble, Directorate of Defense Trade Controls Compliance, Bureau of Political-Military Affairs, Department of State (202) 663-2807 or FAX (202) 261-8199. ATTN: ITAR Regulatory Change, 22 CFR part 122 and part 129.

SUPPLEMENTARY INFORMATION: This interim rule increases the fee charged to those persons required to register with the U.S. State Department, Directorate of Defense Trade Controls in accordance with Section 38 of the Arms Export Control Act (AECA) (22 U.S.C. 2778). ITAR registration fees are set forth at 22 CFR 122.3 and have not been adjusted since 1997. Registration fees (including 4-year renewals) received (or postmarked) prior to the effective date of this amendment will be honored under the previous fee rates. Also, this amendment changes the maximum registration period from up to four years to two years.

This amendment revises 22 CFR 122.2(a) and 122.3(a) and 129.4(a) to reference Form DS-2032 (Statement of Registration), in lieu of Form DSP-9 as the applicable form for registration purposes. The amendment to 22 CFR 122.2(a) also reflects that the State Department will notify the registrant if the Registration Statement package is incomplete, but will no longer return incomplete materials to the sender. 22 CFR 122.2(c) is amended by removing its reference to 22 CFR 60.2(c) because that provision no longer exists.

This amendment revises 22 CFR 122.3(a) to change the maximum registration period to two years from four years. In addition, this amendment removes 22 CFR 122.3(c). The State Department will no longer provide fee refunds to registrants that cease to engage in the manufacture or export of defense articles and defense services.

Regulatory Analysis and Notices

This amendment is made in accordance to the following regulations:

Administrative Procedure Act: The Department's implementation of this regulation as an interim rule with request for comments is based upon the “good cause” exceptions found at 5 U.S.C. 553(b)(B) and (d)(3). The Department has determined that notice and public procedure thereon in advance of the effective date are impracticable and contrary to the public interest as the fees are needed immediately to fund regulatory efforts to help ensure terrorist entities and state sponsors of terrorism do not gain access to exported U.S. defense articles and services. Further, the funds are vital to controlling sensitive weapons and defense technology needed to protect the national security interests of the United States.

Regulatory Flexibility Act: The Department, in accordance with the Regulatory Flexibility Act (5 U.S.C. 605(b)), has reviewed this regulation and, by approving it, certifies that this rule will not have a significant economic impact on a substantial number of small entities.

Unfunded Mandated Reform Act of 1995: This rule will not result in the expenditure by State, local and tribal governments, in the aggregate, or by the private sector, of $100 million or more in any year and it will not significantly or uniquely affect small governments. Therefore, no actions were deemed necessary under the provisions of the Unfunded Mandates Reform Act of 1995.

Small Business Regulatory Enforcement Act of 1996: This rule is not a major rule as defined by section 804 of the Small Business Regulatory Enforcement Act of 1996. This rule will not result in an annual effect on the economy of $100 million or more; a major increase in costs or prices; or significant adverse effects on competition, employment, investment, productivity, innovation, or on the ability of United States-based companies to compete with foreign-based companies in domestic and export markets.

Executive Order 12866: The Department of State does not consider this rule to be a “significant regulatory action” under Executive Order 12866, section 3(f), Regulatory Planning and Review. In addition, the Department is exempt from Executive Order 12866 except to the extent that it is promulgating regulations in conjunction with a domestic agency that are significant regulatory actions. The Department has nevertheless reviewed the regulation to ensure its consistency with the regulatory philosophy and principles set forth in the Executive Order.

Executive Order 12988, Civil Justice Reform: The Department has reviewed this regulation in light of sections 3(a) and 3(b)(2) of Executive Order No. 12988 to eliminate ambiguity, minimize litigation, establish clear legal standards, and reduce burden.

Executive Order 13132: This regulation will not have substantial direct effects on the States, the relationship between the National Government and the States, or on the distribution of power and responsibilities among the various levels of government. Therefore, it is determined that this rule does not have sufficient federalism implications to require consultations or warrant the preparation of a federalism summary impact statement.

Executive Order 12372: This regulation does not require review under Executive Order 12372, Intergovernmental Review of Federal Programs.

Paperwork Reduction Act: This rule does not impose any new reporting or recordkeeping requirements subject to the Paperwork Reduction Act, 44 U.S.C. chapter 35. Form DS-2032, which the rule references, bears OMB Approval No. 1405-0002 and is currently approved for use through July 31, 2005.

List of Subjects

22 CFR Part 122

Arms and munitions, Exports.

22 CFR Part 129

Arms and munitions, Exports, Technical assistance.

Accordingly, for the reasons set forth above, title 22, chapter I, subchapter M, parts 122 and 129 are amended as follows:

PART 122—REGISTRATION OF MANUFACTURERS AND EXPORTERS

1. The authority citation for part 122 continues to read as follows:

Authority: Secs. 2 and 38, Pub. L. 90-629, 90 Stat. 744 (22 U.S.C. 2752, 2778); E.O. 11958, 42 FR 4311, 1977 Comp. p. 79; 22 U.S.C. 2658.

2. Section 122.2 is amended to revise paragraphs (a) and (c) to read as follows:

§ 122.2 Submission of registration statement.

(a) General. The Department of State Form DS-2032 (Statement of Registration) and the transmittal letter required by paragraph (b) of this section must be submitted by an intended registrant with a payment (by check or money order) payable to the Department of State of one of the fees prescribed in § 122.3(a) of this subchapter. Checks and money orders must be in U.S. currency, and checks must be payable through a U.S. financial institution. In addition, the Statement of Registration and transmittal letter must be signed by a senior officer who has been empowered by the intended registrant to sign such documents. The intended registrant also shall submit documentation that demonstrates that it is incorporated or otherwise authorized to do business in the United States. The Directorate of Defense Trade Controls will notify the registrant if the Statement of Registration package is incomplete.

(b) * * *

(c) Definition. For purpose of this section, ownership means that more than 50 percent of the outstanding voting securities of the firm are owned by one or more foreign persons. Control means that one or more foreign persons have the authority or ability to establish or direct the general policies or day-to-day operations of the firm. Control is presumed to exist where foreign persons own 25 percent or more of the outstanding voting securities if no U.S. persons control an equal or larger percentage.

3. Section 122.3 is amended to revise paragraph (a) and remove paragraph (c) to read as follows:

§ 122.3 Registration fees.

(a) A person who is required to register may do so for a period up to 2 years upon submission of a completed Form DS-2032, transmittal letter, and payment of a fee as follows:

1 year | $1,750.00
2 years | $3,500.00

* * * * *

PART 129—REGISTRATION AND LICENSING OF BROKERS

4. The authority citation for part 129 continues to read as follows:

Authority: Sec. 38, Pub. L. 104-164, 110 Stat. 1437, (22 U.S.C. 2778).

5. Section 129.4 is amended to revise paragraph (a) to read as follows:

§ 129.4 Registration statement and fees.

(a) General. The Department of State Form DS-2032 (Statement of Registration) and a transmittal letter meeting the requirements of § 122.2(b) of this subchapter must be submitted by an intended registrant with a payment by check or money order payable to the Department of State of one of the fees prescribed in § 122.3(a) of this subchapter. The Statement of Registration and transmittal letter must be signed by a senior officer who has been empowered by the intended registrant to sign such documents. The intended registrant also shall submit documentation that demonstrates that it is incorporated or otherwise authorized to do business in the United States.

* * * * *

Dated: November 1, 2004.
John R. Bolton,
Under Secretary, Arms Control and International Security, Department of State.

[FR Doc. 04-26954 Filed 12-7-04; 8:45 am]

BILLING CODE 4710-25-P